DEPARTMENT OF COMMERCE

National Oceanic and Atmospheric Administration

[RTID 0648-XC443]

New England Fishery Management Council; Public Meeting

AGENCY: National Marine Fisheries Service (NMFS), National Oceanic and Atmospheric Administration (NOAA), Commerce.

ACTION: Notice of public meetings.

SUMMARY: The New England Fishery Management Council's is convening several workshops to hear and discuss Ecosystem-Based Fishery Management (EBFM) for Georges Bank framework. Workshop summaries will be presented at a future Council Meeting.

DATES: These workshops will be held between the dates of Tuesday, October 25, 2022 and Thursday, November 10, 2022. See SUPPLEMENTARY INFORMATION for more details on specific dates and times.

ADDRESSES: See SUPPLEMENTARY INFORMATION for specific dates and locations.

Council address: New England Fishery Management Council, 50 Water Street, Mill 2, Newburyport, MA 01950.

FOR FURTHER INFORMATION CONTACT: Thomas A. Nies, Executive Director, New England Fishery Management Council; telephone: (978) 465-0492.

SUPPLEMENTARY INFORMATION:

1. Tuesday, October 25, 2022, 3-6 p.m., Maritime Gloucester, 23 Harbor Loop, Gloucester, MA 01930;

2. Wednesday, October 26, 2022, 3-6 p.m., DoubleTree Hotel, 363 Maine Mall Road, Portland, ME 04106;

3. Tuesday, November 1, 2022, 3-6 p.m., Chatham Community Center, 702 Main Street, Chatham, MA 02633;

4. Wednesday, November 2, 2022, 3-6 p.m. New Bedford Whaling Museum, 18 Johnny Cake Hill, New Bedford, MA 02740;

5. Tuesday, November 8, 2022, 3-6 p.m., Superior Trawl Conference Room, 55 State Street, Narragansett, RI 02882;

6. Wednesday, November 9, 2022, 3-6 p.m., Montauk Playhouse, 240 Edgemere Street, Montauk, NY 11954; and

7. Thursday, November 10, 2022, 3-6 p.m., Holiday Inn, 151 Route 72 West, Manahawkin, NJ 08050.

Agenda

The public is invited to participate in workshops to hear and discuss the potential for the New England Fishery Management Council to regulate fisheries on Georges Bank using what is known as Ecosystem-Based Fishery Management or EBFM. The Council developed an example Fishery Ecosystem Plan (eFEP) that describes a general framework to account for trophic interactions and managed groups of stocks as a stock complex to reduce fishing costs and bycatch technical interactions. It also discusses management options that need to be considered to implement EBFM policies. EBFM Public Outreach Materials are available on the Council's website and include a short introductory video, infographics, stakeholder brochures, presentations, and interactive tools.

The public also should be aware that the meeting will be recorded. Consistent with 16 U.S.C. 1852, a copy of the recording is available upon request.

Special Accommodations

These meetings are physically accessible to people with disabilities. Requests for sign language interpretation or other auxiliary aids should be directed to Thomas A. Nies, Executive Director, at (978) 465-0492, at least 5 days prior to the meeting date.

Authority: 16 U.S.C. 1801 et seq.

Dated: October 3, 2022.
Rey Israel Marquez,
Acting Deputy Director, Office of Sustainable Fisheries, National Marine Fisheries Service.

[FR Doc. 2022-21808 Filed 10-6-22; 8:45 am]

BILLING CODE 3510-22-P